DEPARTMENT OF COMMERCE

National Oceanic and Atmospheric Administration

[I.D. 101304B]

Proposed Information Collection; Comment Request; 2005 Coastal Resource Management Customer Survey

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 17, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Tom Fish at NOAA Coastal Services Center, (843) 740-1271 or Tom.Fish@noaa.gov.

SUPPLEMENTARY INFORMATION:

I. Abstract

This survey will be used by the NOAA Coastal Services Center to obtain information from our customers about their natural resource management issues, their information, training, and technical assistance needs, and their technical capabilities in order to make quality improvements the Center's products and services.

II. Method of Collection

A paper survey will be used, but a password-protected Web version of the survey will also be available.

III. Data

OMB Number: None.

Form Number: None.

Type of Review: Regular submission.

Affected Public: Federal government; state, local, or tribal government (e.g., natural resource management agencies); not-for-profit institutions (Sea Grant programs).

Estimated Number of Respondents: 1,500.

Estimated Time Per Response: 30 minutes.

Estimated Total Annual Burden Hours: 750 hours.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 12, 2004.
Gwellnar Banks,
Management Analyst, Office of the Chief Information Officer.

[FR Doc. 04-23286 Filed 10-15-04; 8:45 am]

BILLING CODE 3510-JE-S